DEPARTMENT OF ENERGY

Federal Energy Regulatory Commission

Combined Notice of Filings #1

Take notice that the Commission received the following electric rate filings:

Docket Numbers: ER18-1489-002; ER13-1101-027; ER13-1541-026; ER14-661-017; ER14-787-020; ER15-54-011; ER15-55-011; ER15-1475-012; ER15-2593-011; ER16-452-010; ER16-705-008; ER16-706-008; ER16-1154-009; ER16-1882-004; ER17-252-005; ER17-2508-003; ER21-1988-003; ER21-2867-001.

Applicants: Tri-State Generation and Transmission Association, Inc., SP Garland Solar Storage, LLC, RE Gaskell West 1 LLC, 2016 ESA Project Company, LLC, Boulder Solar Power, LLC, Parrey, LLC, RE Garland A LLC, RE Garland LLC, RE Tranquillity LLC, Desert Stateline LLC, North Star Solar, LLC, Blackwell Solar, LLC, Lost Hills Solar, LLC, Macho Springs Solar, LLC, SG2 Imperial Valley LLC, Campo Verde Solar, LLC, Spectrum Nevada Solar, LLC, SP Cimarron I, LLC.

Description: Triennial Market Power Analysis for Southwest Region of SP Cimarron I, LLC, et al.

Filed Date: 6/30/22.

Accession Number: 20220630-5372.

Comment Date: 5 p.m. ET 8/29/22.

Docket Numbers: ER18-2370-005.

Applicants: Lackawanna Energy Center LLC.

Description: Compliance filing: Supplement to Informational Filing Regarding Upstream Change in Ownership to be effective N/A.

Filed Date: 7/6/22.

Accession Number: 20220706-5055.

Comment Date: 5 p.m. ET 7/27/22.

Docket Numbers: ER22-1884-000.

Applicants: Sanford ESS, LLC.

Description: Report Filing: Sanford ESS Supplemental MBR Filing to be effective N/A.

Filed Date: 7/5/22.

Accession Number: 20220705-5099.

Comment Date: 5 p.m. ET 7/15/22.

Docket Numbers: ER22-1885-000.

Applicants: South Portland ESS, LLC.

Description: Report Filing: South Portland ESS Supplemental MBR Filing to be effective N/A.

Filed Date: 7/5/22.

Accession Number: 20220705-5104.

Comment Date: 5 p.m. ET 7/15/22.

Docket Numbers: ER22-1888-000.

Applicants: AE-ESS NWS 1, LLC.

Description: Report Filing: AE-ESS NWS 1 Supplemental MBR Filing to be effective N/A.

Filed Date: 7/5/22.

Accession Number: 20220705-5103.

Comment Date: 5 p.m. ET 7/15/22.

Docket Numbers: ER22-2287-000.

Applicants: Public Service Company of New Mexico.

Description: § 205(d) Rate Filing: 2nd Revised WAPA NITSA/NOA to be effective 7/1/2022.

Filed Date: 7/5/22.

Accession Number: 20220705-5173.

Comment Date: 5 p.m. ET 7/26/22.

Docket Numbers: ER22-2288-000.

Applicants: Public Service Company of Colorado.

Description: § 205(d) Rate Filing: Parent Record ID Reassignment to be effective 7/7/2022.

Filed Date: 7/6/22.

Accession Number: 20220706-5071.

Comment Date: 5 p.m. ET 7/27/22.

Docket Numbers: ER22-2289-000.

Applicants: Tri-State Generation and Transmission Association, Inc.

Description: § 205(d) Rate Filing: Initial Filing of Service Agreement No. 907 to be effective 6/23/2022.

Filed Date: 7/6/22.

Accession Number: 20220706-5072.

Comment Date: 5 p.m. ET 7/27/22.

Docket Numbers: ER22-2290-000.

Applicants: PJM Interconnection, L.L.C.

Description: § 205(d) Rate Filing: Amendment to ISA, SA No. 5619; Queue No. AC1-221/AD1-058 to be effective 4/2/2020.

Filed Date: 7/6/22.

Accession Number: 20220706-5085.

Comment Date: 5 p.m. ET 7/27/22.

Docket Numbers: ER22-2291-000.

Applicants: Southwest Power Pool, Inc.

Description: § 205(d) Rate Filing: 3977 Salt Branch Solar GIA to be effective 6/10/2022.

Filed Date: 7/6/22.

Accession Number: 20220706-5094.

Comment Date: 5 p.m. ET 7/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2022.
Debbie-Anne A. Reese,
Deputy Secretary.

[FR Doc. 2022-14788 Filed 7-11-22; 8:45 am]

BILLING CODE 6717-01-P